FEDERAL TRADE COMMISSION

Granting of Request for Early Termination of the Waiting Period Under the Premerger Notification Rules

Section 7A of the Clayton Act, 15 U.S.C. 18a, as added by Title II of the Hart-ScottRodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted February 1, 2012 thru February 29, 2012
02/01/2012>
20120431 | G | Alexion Pharmaceuticals, Inc.; Enobia Pharina Corp.; Alexion Pharmaceuticals, Inc.
20120440 | G | Post Oak Companies, LP; Prospect Capital Corporation; Post Oak Companies, LP.
02/02/2012
20120427 | G | Fossil, Inc.; Henrik Jorst; Fossil, Inc.
20120452 | G | Lime Rock Partners V, L.P.; Archer Limited; Lime Rock Partners V. L.P.
20120453 | G | GT Investors, Inc.; ARC Energy Fund 5 United States LP; GT Investors. Inc.
20120455 | G | Jay L. Sedwick; Accu Spec Main Street, LLC; Jay L. Sedwick.
20120456 | G | Audax Private Equity Fund III, L.P.; Morgenthaler Management Partners VII, L.P.; Audax Private Equity Fund III, L.P.
02/03/2012
20120439 | G | Lam Research Corporation; Novellus Systems, Inc.; Lam Research Corporation.
20120460 | G | TransDigm Group Incorporated; AmSafe Global Holdings, Inc.; TransDigm Group Incorporated.
20120474 | G | Forum Energy Technologies, Inc.; The Jack Coleman Trust and Janet Coleman Trust; Forum Energy Technologies, Inc.
20120479 | G | Essex Woodlands Health Ventures VIII, L.P.; Smith & Nephew plc; Essex Woodlands Health Ventures VIII, L.P.
20120482 | G | H. Lawrence Culp, Jr.; Danaher Corporation; H. Lawrence Culp, Jr.
02/06/2012
20120432 | G | Carl C. Icahn; CVR Energy, Inc.; Carl C. Icahn
20120446 | G | Macquarie Partners II Intl.; WCA Waste Corporation; Macquarie Partners II Intl.
20120462 | G | Twin Eagle Resource Management, LLC; Black Hills Corporation; Twin Eagle Resource Management, LLC.
20120490 | G | Lightyear Fund II, L.P.; Genworth Financial, Inc.; Lightyear Fund II, L.P.
02/07/2012
20111442 | G | ACI Worldwide, Inc.; SI Corporation; ACI Worldwide, Inc.
20120423 | G | Taconic Opportunity Fund L.P.; CA, Inc.; Taconic Opportunity Fund L.P.
20120424 | G | Taconic Opportunity Offshore Fund Ltd.; CA, Inc.; Taconic Opportunity Offshore Fund Ltd.
20120466 | G | Steven H. Madden; Steven Madden, Ltd.; Steven H. Madden.
20120471 | G | Mount Kellett Capital Partners (Cayman), L.P.; Newco; Mount Kellett Capital Partners (Cayman), L.P.
20120472 | G | Newco; The Great Atlantic & Pacific Tea Company, Inc.; Newco.
20120473 | G | Arrow Electronics, Inc.; Catterton Partners V, L.P.; Arrow Electronics, Inc.
20120475 | G | American Electric Power Company, Inc.; Guy H. Morgan III; American Electric Power Company, Inc.
20120478 | G | Apache Corporation; Cordillera Energy Partners III, LLC; Apache Corporation.
20120480 | G | Eli Lilly & Company; Bernhard & Christie Treidl; Eli Lilly & Company.
20120483 | G | Teachers Insurance and Annuity Association of America; Edison International; Teachers Insurance and Annuity Association of America.
02/10/2012
20120351 | G | ACCO Brands Corporation; MeadWestvaco Corporation; ACCO Brands Corporation.
20120488 | G | The Hearst Family Trust; Marc Ladreit de Lacharriere; The Hearst Family Trust.
20120491 | G | Meredith Corporation; RDA Holding Co.; Meredith Corporation.
02/13/2012
20120499 | G | Littlejohn Fund IV, L.P.; A.P. M?ller og Hustru Chastine Mc-Kinney M?llers Fond; Littlejohn Fund IV, L.P.
20120505 | G | Alfred E. Mann MannKind Corporation; Alfred E. Mann.
02/14/2012
20120477 | G | GTCR Fund IX/A, L.P.; Universal American Corp.; GTCR Fund IX/A, L.P.
20120496 | G | Amgen Inc.; Micromet, Inc.; Amgen Inc.
20120498 | G | The Weir Group PLC; Starr L. Pitzer and Christine H. Pitzer; The Weir Group PLC.
02/15/2012
20120501 | G | KEMET Corporation; Denham Commodity Partners IV LP; KEMET Corporation.
20120506 | G | Redtop Holdings Limited; Intermediate Capital Group plc; Redtop Holdings Limited.
02/16/2012
20111164 | G | Apple Inc.; Rockstar Bidco, L.P.; Apple Inc.
20111389 | G | Microsoft Corporation; Rockstar Bidco, LP; Microsoft Corporation.
20111423 | G | Research In Motion Limited; Rockstar Bidco, LP; Research In Motion Limited.
02/17/2012
20111146 | G | Apple Inc.; CPTN Holdings LLC; Apple Inc.
20120508 | G | Medical Properties Trust, Inc.; FFC Partners II, L.P.; Medical Properties Trust, Inc.
20120510 | G | GS Engineering & Construction Corporation; Inmobiliaria Espacio, S.A.; GS Engineering & Construction Corporation.
20120513 | G | Archipelago Holdings; CDC Corporation; Archipelago Holdings.
20120516 | G | Gores Capital Partners HI, L.P.; The Pep Boys-Manny, Moe & Jack; Gores Capital Partners III, L.P.
02/23/2012
20120338 | G | TE Connectivity Ltd.; Wendel SA; TE Connectivity Ltd.
20120469 | G | Raymond James Financial, Inc.; Regions Financial Corp.; Raymond James Financial, Inc.
20120519 | G | Molibdenos y Metales S.A.; Molycorp, Inc.; Molibdenos y Metales S.A.
02/24/2012
20120502 | G | CVS Caremark Corporation; Health Net, Inc.; CVS Caremark Corporation.
20120522 | G | Innovative Interfaces Holdings Ltd.; Gerald M. Kline; Innovative Interfaces Holdings Ltd.
20120523 | G | KRG Capital Fund IV. L.P.; Frontenac VIII Limited Partnership; KRG Capital Fund IV. L.P.
20120524 | G | Roger S. Penske; Roger S. Penske; Roger S. Penske.
20120529 | G | Fidelity National Financial. Inc.; O'Charley's Inc.; Fidelity National Financial, Inc.
02/27/2012
20120536 | G | Oracle Corporation; Taleo Corporation; Oracle Corporation.

FOR FURTHER INFORMATION CONTACT: Renee Chapman, Contact Representative, or Theresa Kingsberry, Legal Assistant, Federal Trade Commission, Premerger Notification Office, Bureau of Competition, Room H-303, Washington, DC 20580, (202) 326-3100.

By Direction of the Commission.
Donald S. Clark,
Secretary.

[FR Doc. 2012-5606 Filed 3-8-12; 8:45 a.m.]

BILLING CODE 6750-01-M